DEPARTMENT OF ENERGY

Federal Energy Regulatory Commission

[Docket No. RP01-84-000]

Petal Gas Storage, L.L.C.; Notice of Request for Exemption

November 15, 2000.

Take notice that on November 9, 2000, Petal Gas Storage L.L.C. (Petal) tendered for filing, in accordance with the Commission's Order on Filings to Establish Imbalance Netting and Trading Pursuant to Order Nos. 587-G and 587-L, in Docket No. RM96-1-014 issued October 27, 2000, 93 FERC ¶ 61,093 (2000), a request for an exemption from the requirement to implement imbalance netting and trading on its system in conformance with Section 284.12(c)(2)(ii) of the Commission's Regulations. Petal's shippers do not incur imbalances and are not subject to imbalance penalties. Accordingly, there are no imbalances to net or trade on Petal's system.

Petal states that copies of this filing are being served on all affected customers and applicable state regulatory agencies.

Any person desiring to be heard or to protest said filing should file a motion to intervene or a protest with the Federal Energy Regulatory Commission, 888 First Street, NE., Washington, DC 20426, in accordance with Sections 385.214 or 385.211 of the Commission's Rules and Regulations. All such motions or protests must be filed on or before November 22, 2000. Protests will be considered by the Commission in determining the appropriate action to be taken, but will not serve to make protestants parties to the proceedings. Any person wishing to become a party must file a motion to intervene. Copies of this filing are on file with the Commission and are available for public inspection in the Public Reference Room. This filing may be viewed on the web at http://www.ferc.fed.us/online/rims.htm (call 202-208-2222 for assistance). Comments and protests may be filed electronically via the internet in lieu of paper. See, 18 CFR 385.2001(a)(1)(iii) and the instructions on the Commission's web site at http://www.ferc.us/efi/doorbell.htm.

Linwood A. Watson, Jr.,
Acting Secretary.

[FR Doc. 00-29679 Filed 11-20-00; 8:45 am]

BILLING CODE 6717-01-M